DEPARTMENT OF COMMERCE

U.S. Census Bureau

Proposed Information Collection; Comment Request; Annual Wholesale Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before July 28, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Bill Abriatis, U.S. Census Bureau, Room 8K081, Washington, DC 20233-6500, (301) 763-3686, (or via the Internet at william.m.abriatis@census.gov).

SUPPLEMENTARY INFORMATION:

I. Abstract

The Annual Wholesale Trade Survey (AWTS) covers employer firms with establishments located in the United States and classified in the wholesale trade and/or Manufacturers' Sales Branches and Offices and Agents, Brokers, Representatives, and Electronic Markets sectors as defined by the North American Industry Classification System (NAICS).

Firms are selected for this survey using a stratified random sample where strata are defined by industry and annual sales size. The sample, consisting of wholesale businesses classified in the Wholesale Trade and/or Manufacturers Sales Branches and Offices and Agents, Brokers, Representatives and Markets sector as defined by the 2007 North American Industry Classification Systems (NAICS), is drawn from the Business Register (BR). The BR is the Census Bureau's master business list and contains basic economic information for over 7.4 million employers businesses and over 22.5 million nonemployer businesses. The BR obtains information through direct data collections and administrative record information from federal agencies. The sample is updated quarterly to reflect employer business “births” and “deaths” by adding new employer businesses identified in the Business and Professional Classification Survey and deleting firms and EINs when it is determined they are no longer active.

The survey request firms to provide annual sales, annual e-commerce sales, year-end inventories held inside and outside the United States, total operating expenses, purchases, and, for selected industries, commissions, and sales on their own account. These data are used to satisfy a variety of public and business needs such as economic market analysis, company performance, and forecasting future demands. Results will be available, at the United States summary level, for selected wholesale trade, and/or manufacturers' sales branches and offices and agents, brokers, representatives and electronic markets, industries approximately fifteen months after the end of the reference year.

Every 5 years, AWTS requests data on detailed operating expenses. During the next three years, detailed operating expenses will not be collected. The last time AWTS collected detailed operating expenses was in 2013 for the 2012 survey year. The plan is to reinstate these questions in 2018 as part of the 2017 AWTS data collection.

II. Method of Collection

We collect this information by Internet, fax, mail, and telephone.

III. Data

OMB Control Number: 0607-0195.

Form Number(s): SA-42, SA-42A, SA-42(MSBO), SA-42A(MSBO), SA-42(AGBR), SA-42A(AGBR).

Type of Review: Regular submission.

Affected Public: Wholesale firms located in the United States.

Estimated Number of Respondents: 7,200.

Estimated Time per Response: Varies by form. Average of 30 minutes.

Estimated Total Annual Burden Hours: 3,600.

Estimated Total Annual Cost to Respondents: The total cost to respondents is estimated to be $114,609.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 22, 2014.
Glenna Mickelson,
Management Analyst, Office of the Chief Information Officer.

[FR Doc. 2014-12372 Filed 5-28-14; 8:45 am]

BILLING CODE 3510-07-P